DEPARTMENT OF THE INTERIOR

Fish and Wildlife Service

Extension of Comment Period: Draft Policy on National Wildlife Refuge System: Mission, Goals, and Purposes (Notice); Draft Appropriate Refuge Uses Policy Pursuant to the National Wildlife Refuge System Improvement Act of 1997 (Notice); Draft Wildlife-Dependent Recreational Uses Policy Pursuant to the National Wildlife Refuge System Improvement Act of 1997 (Notice); and Draft Wilderness Stewardship Policy Pursuant to the Wilderness Act of 1964 (Notice)

AGENCY: Fish and Wildlife Service, Interior.

ACTION: Notice; extension of comment period.

SUMMARY: We are extending the comment period on the Federal Register notice dated January 16, 2001, pages 3668-3731 that invites the public to comment on the following policies: National Wildlife Refuge System: Mission, Goals, and Purposes; Appropriate Refuge Uses Policy Pursuant to the National Wildlife Refuge System Improvement Act of 1997; Wildlife-Dependent Recreational Uses Policy Pursuant to the National Wildlife Refuge System Improvement Act of 1997; and Wilderness Stewardship Policy Pursuant to the Wilderness Act of 1964.

DATES: Submit comments on or before April 19, 2001.

FOR FURTHER INFORMATION CONTACT: Elizabeth Souheaver, Acting Chief, Division of Natural Resources, National Wildlife Refuge System (703) 358-1744.

SUPPLEMENTARY INFORMATION: In a Federal Register notice dated January 16, 2001 (66 FR 3668) we published draft policies for National Wildlife Refuge System Mission, Goals, and Purposes; Appropriate Refuge Uses Policy Pursuant to the National Wildlife Refuge System Improvement Act of 1997; Wildlife-Dependent Recreational Uses Policy Pursuant to the National Wildlife Refuge System Improvement Act of 1997; and Wilderness Stewardship Policy Pursuant to the Wilderness Act of 1964. These policies, affecting management and use of the National Wildlife Refuge System, represent the culmination of our initial policy development in response to the landmark National Wildlife Refuge System Improvement Act of 1997.

We received several requests to extend the public comment period beyond the March 19, 2001 due date. In order to ensure that the public has an adequate opportunity to review and comment on our draft policy, we are extending the comment period to April 19, 2001.

Dated: February 14, 2001.
Marshall P. Jones, Jr.,
Acting Director, Fish and Wildlife Service.

[FR Doc. 01-6404 Filed 3-14-01; 8:45 am]

BILLING CODE 4310-55-M